FEDERAL COMMUNICATIONS COMMISSION

47 CFR Part 73

[MB Docket No. 99-25; FCC 07-204]

Creation of a Low Power Radio Service

AGENCY: Federal Communications Commission.

ACTION: Final rule; correction.

SUMMARY: The Federal Communications Commission (FCC) is correcting a final rule that was published in the Federal Register on January 17, 2008 (73 FR 3202), and which becomes effective on March 17, 2008.

DATES: Effective March 17, 2008.

FOR FURTHER INFORMATION CONTACT: For additional information on this proceeding, contact Holly Saurer, Holly.Saurer@fcc.gov of the Media Bureau, Policy Division, (202) 418-2120.

SUPPLEMENTARY INFORMATION: The Commission's Third Report and Order, FCC 07-204, adopted on November 27, 2007 and released on December 11, 2007, amends section 73.3598(a) of the Commission's rules. This rule change, listed as amendment 9 of the rule changes to part 73 on page 3218, omits the changes made to this rule by the Commission's Report and Order, FCC 07-228, in the Third Periodic Review of the Commission's Rules and Policies Affecting the Conversion To Digital Television, MB Docket No. 07-91, adopted on December 22, 2007 and released on December 31, 2007 (“Third DTV Periodic Report and Order”). The final rule in the Third DTV Periodic Report and Order that amended section 73.3598(a) was published in the Federal Register on January 30, 2008 (73 FR 5633) and also became effective on that date.

Correction

In rule FR Doc. E8-783 published on January 17, 2008 (73 FR 3218) make the following correction. On page 3218, the first column, paragraph no. 9 to the amendment of the rule to part 73 is corrected as follows:

9. Section 73.3598 is amended by revising paragraph (a) to read as follows:

§ 73.3598 Period of construction.

(a) Each original construction permit for the construction of a new TV (including full-power DTV), AM, FM or International Broadcast; low power TV; TV translator; TV booster; FM translator; FM booster station; or to make changes in such existing stations, shall specify a period of three years from the date of issuance of the original construction permit within which construction shall be completed and application for license filed. Each original construction permit for the construction of a new LPFM station shall specify a period of eighteen months from the date of issuance of the construction permit within which construction shall be completed and application for license filed. A LPFM permittee unable to complete construction within the time frame specified in the original construction permit may apply for an eighteen month extension upon a showing of good cause. The LPFM permittee must file for an extension on or before the expiration of the construction deadline specified in the original construction permit.

* * * * *

Federal Communications Commission.
Marlene H. Dortch,
Secretary.

[FR Doc. E8-3533 Filed 2-22-08; 8:45 am]

BILLING CODE 6712-01-P